DEPARTMENT OF LABOR

Employment and Training Administration

20 CFR Part 655

RIN 1205-AB24

Labor Certification and Petition Process for the Temporary Employment of Nonimmigrant Aliens in Agriculture in the United States; Modification of Fee Structure; Withdrawal of Proposed Rule; Correction

AGENCY: Employment and Training Administration.

ACTION: Withdrawal of proposed rule; correction.

SUMMARY: This document corrects the proposed rule withdrawal document which was published Thursday, September 24, 2002, (67 FR 59797), concerning the temporary employment of nonimmigrant farmworkers.

DATE: The proposed rule was withdrawn as of September 24, 2002.

FOR FURTHER INFORMATION CONTACT: Charlene G. Giles, (202) 693-2950 (not a toll-free call).

SUPPLEMENTARY INFORMATION: In FR proposed rule document 02-24190 beginning on page 59797 in the issue of Tuesday, September 24, 2002, make the following corrections: On page 59797 in the first column, the Federal Register publication date was listed as July 13, 2001 due to a typographical error. The date should be changed to read July 13, 2000.

Signed at Washington DC, this 9th day of October 2002.
Emily Stover DeRocco,
Assistant Secretary of Labor for Employment and Training.

[FR Doc. 02-26382 Filed 10-16-02; 8:45 am]

BILLING CODE 4510-30-M